DEPARTMENT OF THE INTERIOR

Bureau of Land Management

[LLCAN00000.L18200000.ZX0000]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, March 26 and 27, 2009, at the Bureau of Land Management Redding Field Office, 355 Hemsted Dr., Redding, California. On March 26, the council convenes at 10 a.m. and departs for a field tour of recreational trails managed by the Redding Field Office. On March 27, the meeting begins at 8 a.m. in the Conference Room at the Redding Field Office. Time for public comment has been reserved for 1 p.m. on Friday, March 27.

FOR FURTHER INFORMATION CONTACT: Rich Burns, BLM Ukiah Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting agenda topics include a planning session for the coming year's work, a discussion of areas in which the RAC can assist the BLM, and an update on management of the Sacramento River Bend Area of Critical Environmental Concern. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: January 12, 2009.
Joseph J. Fontana,
Public Affairs Officer.

[FR Doc. E9-1607 Filed 1-23-09; 8:45 am]

BILLING CODE 4310-40-P